DEPARTMENT OF COMMERCE

International Trade Administration

[C-533-825]

Notice of Countervailing Duty Order: Polyethylene Terephthalate Film, Sheet, and Strip (PET Film) from India

AGENCY: Import Administration, International Trade Administration, Department of Commerce.

EFFECTIVE DATE: July 1, 2002.

FOR FURTHER INFORMATION CONTACT: Mark Manning or Howard Smith at (202) 482-5253 or (202) 482-5193, respectively, AD/CVD Enforcement, Office 4, Group II, Import Administration, International Trade Administration, U.S. Department of Commerce, 14th Street and Constitution Avenue, NW., Washington, DC 20230.

SUPPLEMENTARY INFORMATION:

The Applicable Statute and Regulations

Unless otherwise indicated, all citations to the statute are references to the provisions effective January 1, 1995, the effective date of the amendments made to the Tariff Act of 1930, as amended, (the Act) by the Uruguay Round Agreements Act. In addition, unless otherwise indicated, all citations to the Department of Commerce's (the Department's) regulations refer to the regulations codified at 19 CFR part 351 (April 2001).

Scope of Order

For purposes of this order, the products covered are all gauges of raw, pretreated, or primed PET film, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00. HTSUS subheadings are provided for convenience and Customs purposes. The written description of the scope of this order is dispositive.

Countervailing Duty Order

In accordance with section 705(d) of the Act, on May 16, 2002, the Department published in the Federal Register its final affirmative determination in the countervailing duty investigation of PET film from India (67 FR 34905). On June 24, 2002, the International Trade Commission (ITC) notified the Department of its final determination, pursuant to section 705(b)(1)(A)(i) of the Act, that an industry in the United States is materially injured by reason of imports of PET film from India.

Therefore, countervailing duties will be assessed on all unliquidated entries of PET film from India entered, or withdrawn from warehouse, for consumption on or after October 22, 2001, the date on which the Department published its preliminary countervailing duty determination in the Federal Register, but before February 19, 2002, the date the Department instructed the U.S. Customs Service to discontinue the suspension of liquidation in accordance with section 703(d) of the Act, and on all PET film from India entered or withdrawn from warehouse for consumption on or after the date of publication of this countervailing duty order in the Federal Register. Section 703(d) of the Act states that the suspension of liquidation pursuant to a preliminary countervailing duty determination may not remain in effect for longer than four months. Thus, entries of PET film made on or after February 19, 2002, and prior to the date of publication of this order in the Federal Register are not liable for the assessment of countervailing duties due to the Department's discontinuation, effective February 19, 2002, of suspension of liquidation, pursuant to section 703(d) of the Act.

In accordance with section 706 of the Act, the Department will direct U.S. Customs officers to reinstate the suspension of liquidation effective the date of publication of this notice in the Federal Register and to assess, upon further advice by the Department pursuant to section 706(a)(1) of the Act, countervailing duties for each entry of the subject merchandise in an amount based on the net countervailable subsidy rate for the subject merchandise.

On or after the date of publication of this notice in the Federal Register, U.S. Customs officers must require, at the same time as importers would normally deposit estimated duties on this merchandise, a cash deposit equal to the countervailable subsidy rates noted below. The “All Others” rate applies to all producers and exporters of PET film from India not specifically listed below. The cash deposit rates are as follows:

Producer/Exporter | Cash Deposit Rate
Ester Industries Ltd. | 18.43% ad valorem
Garware Polyester Ltd. | 24.48% ad valorem
Polyplex Corporation Ltd. | 18.66% ad valorem
All Others | 20.40% ad valorem

This notice constitutes the countervailing duty order with respect to PET film from India, pursuant to section 706(a) of the Act. Interested parties may contact the Central Records Unit, room B-099 of the main Commerce building, for copies of an updated list of countervailing duty orders currently in effect.

This countervailing duty order is published in accordance with section 706(a) of the Act and 19 CFR 351.211.

Dated: June 25, 2002
Joseph A. Spetrini,
Acting Assistant Secretary for Import Administration.

[FR Doc. 02-16509 Filed 6-28-02; 8:45 am]

BILLING CODE 3510-DS-S